ENVIRONMENTAL PROTECTION AGENCY

[EPA-HQ-ORD-2006-0384; FRL-8219-7]

Human Studies Review Board (HSRB); Notification of a Public Teleconference To Review Its Draft Report From the June 27-30, 2006 HSRB Meeting; Correction of EPA Contact Telephone Number

AGENCY: Environmental Protection Agency (EPA).

ACTION: Notice; correction.

SUMMARY: On September 5, 2006, the U.S. Environmental Protection Agency's (EPA or Agency) Office of the Science Advisor (OSA) announced a public teleconference of the Human Studies Review Board (HSRB) to be held September 26, 2006 from 1-4 p.m., eastern time. Please be advised that the contact telephone number for the DFO was incorrect.

FOR FURTHER INFORMATION CONTACT: Maria Szilagyi, Designated Federal Officer (DFO), EPA, Office of the Science Advisor, (8105), Environmental Protection Agency, 1200 Pennsylvania Avenue, NW., Washington, DC 20460: telephone number (202) 564-6809; e-mail address: szilagyi.maria@epa.gov. General information concerning the EPA HSRB can be obtained from the EPA Web site at http://www.epa.gov/osa/hsrb/.

Correction: In the Federal Register of September 5, 2006, in FR Doc. E6-14644, on page 52326 (2nd column), correct the entry for telephone/voice mail to read telephone/voice mail at (202) 564-6809.

Dated: September 8, 2006.
George Gray,
EPA Science Advisor.

[FR Doc. E6-15255 Filed 9-13-06; 8:45 am]

BILLING CODE 6560-50-P